DEPARTMENT OF THE INTERIOR

National Park Service

[NPS-PWR-PWRO-11650; PX.DYOSE0023.00.1]

Draft Environmental Impact Statement for Restoration of the Mariposa Grove of Giant Sequoias, Yosemite National Park, Madera, and Mariposa Counties, CA

AGENCY: National Park Service, Interior.

ACTION: Notice of availability.

SUMMARY: Pursuant to the National Environmental Policy Act (NEPA) of 1969 (42 U.S.C. 4332(2)(C)) and consistent with the National Historic Preservation Act (NHPA) of 1966 (16 U.S.C. 470 et seq.), the National Park Service has prepared a Draft Environmental Impact Statement (EIS) for the proposed restoration of the Mariposa Grove of giant sequoias in Yosemite National Park. This Draft EIS presents three comprehensive design alternatives for restoring natural conditions in the Mariposa Grove as well as improving visitor experience and access within the Grove and at the nearby South Entrance to the park. The National Park Service is inviting public review of the document to solicit feedback on the proposed alternatives and to hear ideas and concerns for consideration in the Final EIS.

DATES: All written comments must be postmarked or transmitted not later 60 days from the date of publication in the Federal Register of the Environmental Protection Agency's notification of availability of the Draft EIS. Upon confirmation of this date, announcements will be provided on the project Web site (http://www.nps.gov/yose/parkmgmt/mgrove.htm) and via local and regional press media. Public meetings will be held during the review period (exact date, location, and times to be announced; visit the park's web pages for up-to-date information).

ADDRESSES: Written comments may be submitted electronically to http://parkplanning.nps.gov/mariposagrove or by mail to Superintendent, Attn: Mariposa Grove DEIS, PO Box 577, Yosemite, CA 95389. Comments may also be submitted in person during business hours to the Superintendent's Office in the Valley Administration Building or the Office of Environmental Planning and Compliance at 5083 Foresta Road, El Portal, CA.

Before including your address, phone number, email address, or other personal identifying information in your comment, you should be aware that your entire comment—including your personal identifying information—may be made publicly available at any time. While you can ask us in your comment to withhold your personal identifying information from public review, we cannot guarantee that we will be able to do so.

SUPPLEMENTARY INFORMATION: Comprehensive actions are needed to ensure that the Mariposa Grove continues to thrive and provide inspiration and enjoyment for future generations. The primary goals of this project are to restore degraded habitat and natural processes critical to the long-term health of the Grove and improve the overall visitor experience. The Draft EIS presents environmental analysis of three action alternatives as well as the No Action Alternative, Alternative 1, which serves as a baseline from which effects of the action alternatives can be compared. To address the considerable issues facing the Grove and its visitors, and consistent with goals outlined in the park's General Management Plan for the Mariposa Grove and South Entrance areas, the National Park Service has developed three design alternatives that include major actions to restore the Grove and improve visitor experience. Alternative 2 (South Entrance Hub) is identified as the agency-preferred alternative. To allow for comprehensive restoration of wetlands, soundscape, and giant sequoia habitat, this alternative would relocate public parking from the lower portion of the Grove to the park's South Entrance and remove commercial tram operations. A South Entrance parking and visitor information hub would become the primary departure point for visitors using the park shuttle to the Grove. An abandoned road segment would be reopened to allow for more extensive restoration of wetlands and sequoia habitat in the lower portion of the Grove. Alternative 3 (Grizzly Giant Hub) would relocate public parking and visitor information to the vicinity of the Grizzly Giant. This alternative would construct a bypass road to the vicinity of the Grizzly Giant, which would allow for removal of commercial tram and shuttle operations within the Grove and provide for comprehensive restoration of wetlands and giant sequoia habitat. Alternative 4 (South Entrance Hub with Modified Commercial Tram) would relocate the commercial tram staging and operations to the South Entrance area and reduce the route and hours of operation to enhance sequoia habitat and improve the soundscape and overall visitor experience within the Grove. The majority of public parking would be relocated to the South Entrance, the primary departure point for visitors using the park shuttle to the Grove. Numerous other rehabilitation and restoration actions, such as improvement of hydrologic flow, project-specific prescribed fire and hazardous fuel reduction treatments, soil decompaction, and improvement of visitor orientation and interpretation would be components of all of the action alternatives to varying degrees.

For further information, please contact the Office of Environmental Planning and Compliance, at (209) 379-1002 to speak with an individual, or (209) 379-1365 to leave a voicemail with your name, call-back number, and/or address.

Decision Process: All comments received on the Draft EIS will be duly considered in preparing the Final EIS. The Final EIS is expected to be available in late Fall 2013. A Record of Decision would be prepared not sooner than 30 days after release of the Final EIS. Because this is a delegated EIS, the official responsible for approving the final plan is the Regional Director, Pacific West Region, National Park Service; subsequently the official responsible for implementation of the approved plan for restoration of the Mariposa Grove is the Superintendent, Yosemite National Park.

Dated: January 17, 2013.
Christine S. Lehnertz,
Regional Director, Pacific West Region.

[FR Doc. 2013-05820 Filed 3-13-13; 8:45 am]

BILLING CODE 4312-FF-P